DEPARTMENT OF LABOR

Employment and Training Administration

Modine Manufacturing, Blythewood, SC; Notice of Affirmative Determination Regarding Application for Reconsideration

By application postmarked October 31, 2006, a worker requested administrative reconsideration of the Department of Labor's Notice of Negative Determination Regarding Eligibility to Apply for Worker Adjustment Assistance, applicable to workers and former workers of the subject firm. The determination was issued on October 12, 2006. On October 25, 2006, the Department's Notice of determination was published in the Federal Register (71 FR 62490).

The negative determination was based on the Department's findings that the subject firm did not shift production abroad during the relevant period, that subject firm sales increased from 2004 to 2005 while production remained constant, and that there were no decline in either sales or production in January through August 2006 compared to the same period in 2005.

In the request for reconsideration, the worker provided additional information regarding the subject firm's closure (July 20, 2006 WARN letter: “It is anticipated that the plant closing will commence on September 15 2006 and will continue into 2007”).

The Department has carefully reviewed the request for reconsideration and has determined that the Department will conduct further investigation.

Conclusion

After careful review of the application, I conclude that the claim is of sufficient weight to justify reconsideration of the Department of Labor's prior decision. The application is, therefore, granted.

Dated: November 16, 2006.
Elliott S. Kushner,
Certifying Officer, Division of Trade Adjustment Assistance.

[FR Doc. E6-19796 Filed 11-22-06; 8:45 am]

BILLING CODE 4510-30-P